ENVIRONMENTAL PROTECTION AGENCY

[ER-FRL-6631-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-AFS-J65361-MT Rating EC2, Black Ant Salvage Project, Salvage of 739 Acres of Dead Merchantable Trees from the Lost Fork Fire of 2001, Lewis and Clark National Forest, Meagher Basin County, MT.

Summary: EPA expressed environmental concerns due to impacts on soils stated to have high to very high erosion hazards in watersheds of 303(d) listed streams, when a winter logging alternative is available that reduces the impacts. EPA requested additional cumulative effects information and mitigation measures to reduce impacts of the management actions.

ERP No. D-AFS-J65362-MT Rating EC2, Pipestone Timber Sale and Restoration Project, Timber Harvest, Prescribed Fire Burning, Watershed Restoration and Associated Activities, Kootenai National Forest, Libby Ranger District, Lincoln Lincoln County, MT.

Summary: EPA expressed environmental concerns about adverse impacts to water quality and recommends consideration of logging methods that reduce ground disturbance in areas with sensitive soils and greater erosion and sediment production potential. EPA will evaluate potential water quality issues and consistency with TMDL development on private industrial timber land in the 303(d) listed Bobtail Creek drainage.

ERP No. D-FRC-E03009-00 Rating EC2, Patriot Project, Construction and Operation of Mainline Expansion and Patriot Extension in order to Transport 510.00 dekatherms per day (dth/day) of Natural Gas, TN, VA and NC.

Summary: EPA has environmental concerns regarding potential impacts to wetlands, nosie and air quality, as well as concerns over environmental justice and the need for an improved alternatives analysis. Specific concerns include sidecasting of spoil in wetlands, compressor station noise, crossing of numerous waterbodies including potential contaminated sediments, and proximity/safety of numerous homes within 25-50 ft of the proposed pipeline route.

ERP No. D-FRC-L05225-OR Rating EC2, North Umpqua Hydroelectric Project (FERC Project 1927), New License Issuance for the existing 185.5-megawatt (MW) Facility, North Umpqua River, Douglas County, OR.

Summary: EPA expressed environmental concerns with the proposed project in that a number of plans, analyses and surveys needed to define project baseline conditions, expected environmental effects and needed mitigation measures have not been completed. EPA recommends that this work be completed and incorporated in the EIS. EPA also recommends that a monitoring and evaluation plan be developed and included in the EIS along with evidence that required government-to-government consultations with affected Tribal governments have been undertaken and completed.

ERP No. D-FRC-L05226-ID Rating EO2, C.J. Strike Hydroelectric Project (FERC NO. 2055), New License Issuance, Snake and Bruneau Rivers, Owyhee and Elmore Counties, ID.

Summary: EPA expressed environmental objections to three of the alternatives evaluated in the EIS as they would not result in any appreciable improvement to instream or riparian environmental conditions. EPA expressed concerns with the Run-of-River alternative due to the lack of a strategy for complying with applicable water quality standards. EPA recommended that the EIS include project impacts and mitigation, the white sturgeon conservation strategy, government-to-government consultation with tribes, and issues identified during scoping.

ERP No. D-TVA-E65059-00 Rating EC1, Pickwick Reservoir Land Management Plan (Plan), Proposal to use the Plan to Guide Land-Use Approvals, Private Water Use Facility Permitting and Resource Management Decisions, Colbert and Lauderdale Counties, AL and Tishomingo County, MS and Hardin County, TN,.

Summary: EPA has environmental concerns and recommends that TVA select an updated land management plan based on the management goals for Pickwick Reservoir considering existing reservoir water quality, shoreline development, natural resources, public comments, and the potential impacts of further development. EPA also recommends that TVA develop a specific watershed protection plan for the reservoir for TVA-owned and managed lands and be an important stakeholder in the community regarding larger watershed issues.

ERP No. DA-FRC-L05208-WA Rating EO2, Rocky Creek Hydroelectric Project, (FERC No. 10311-002) Construction and Operation of a 8.3-megawatt (Mw) Project, Application for License, Rocky Creek, Skagit County, WA.

Summary: EPA expressed environmental objections over potential significant impacts to aquatic and riparian habitat, as well as water quality. EPA recommended additional analyses to define the affected environment, define project impacts and identify mitigation measures to be incorporated in the FSEIS. EPA recommended selection of the No Action alternative.

Final EISs

ERP No. F-COE-E36180-MS

Yalobusha River Watershed, Demonstration Erosion Control Project, Construction of Six Floodwater-Retarding Structures, Yazoo Basin, Webster, Calhoun and Chickasaw Counties, MS.

Summary: EPA expressed environmental concerns regarding the long-term effects of the selected channelization and reservoir alternative, and suggest that these concerns could be addressed if measures protective of the environmental quality of Grenada Lake are implemented.

ERP No. F-DOD-A11076-00

Assembled Chemical Weapons Destruction Technologies at One or More Sites: Design, Construction and Operation of One or More Pilot Test Facilities, Anniston Army Depot, AL; Pine Bluff Arsenal, AR; Blue Grass Army Depot, KY and Pueblo Chemical Depot, CO.

Summary: EPA expressed environmental concern and requested that the Record of Decision contain commitments for further monitoring on air releases and the impacts to human health, and nearby agricultural areas.

ERP No. F-IBR-K39070-CA

American River Pump Station Project, Providing Placer County Water Agency (PCWA) with the Year-Round Access to its Middle Fork Project (MFP) Water Entitlements from the American River, Placer County, CA.

Summary: EPA's previous concerns on the adequacy of documentation regarding air quality impacts, water quality and quantity, and cumulative impacts have been addressed in the FEIS. EPA encouraged the Bureau of Reclamation to continue to work with Placer County and other entities to minimize secondary and cumulative impacts that may occur as a result of the project.

ERP No. F-SFW-K64019-NV

Stillwater National Wildlife Refuge Complex Comprehensive Conservation Plan and Boundary Revision, Implementation, Churchill and Washoe Counties, NV.

Summary: EPA supported the new preferred Alternative E and agrees that it will best serve the protection and enhancement of natural diversity. EPA encouraged the Service to continue to work with the state and local jurisdictions to implement policies and projects that will improve overall water quality. EPA recommended that the Service explore ways to blend the different water sources leading to the wetlands to help meet state water quality standards. EPA encouraged the consideration of mitigation actions identified in the FEIS to reduce wildlife exposure to toxic contamination.

Dated: July 16, 2002.
Joseph C. Montgomery,
Director, NEPA Compliance Division, Office of Federal Activities.

[FR Doc. 02-18283 Filed 7-18-02; 8:45 am]

BILLING CODE 6560-50-P